NUCLEAR REGULATORY COMMISSION

[Docket Nos. 50-498 AND 50-499]

STP Nuclear Operating Company; Notice of Withdrawal of Application for Amendments to Facility Operating Licenses

The U.S. Nuclear Regulatory Commission (the Commission) has granted the request of STP Nuclear Operating Company (the licensee) to withdraw its June 28, 2001, application for proposed amendments to Facility Operating Licenses No. NPF-76 and No. NPF-80 for the South Texas Project, Units 1 and 2, located in Matagorda County, Texas.

The Commission had previously issued a Notice of Consideration of Issuance of Amendment published in the Federal Register on September 28, 2001, (66 FR 49710). However, by letter dated July 28, 2003, the licensee withdrew the proposed change.

For further details with respect to this action, see the application for amendments dated June 28, 2001, the licensee's letter dated May 21, 2002 requesting that the NRC suspend its review of the June 28, 2001 application, and the licensee's letter dated July 28, 2003, which withdrew the June 28, 2001 application for the license amendments. Documents may be examined and/or copied for a fee, at the NRC's Public Document Room (PDR) located at One White Flint North, Public File Area O-1F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encountered problems in accessing the documents located in ADAMS, should contact the NRC PDR Reference staff by telephone at 1-800-397-4209 or 301-415-4737 or by email to pdr@nrc.gov.

Dated at Rockville, Maryland, this 12th day of November 2003.
For the Nuclear Regulatory Commission.
David H. Jaffe,
Senior Project Manager, Section 1, Project Directorate IV, Division of Licensing Project Management, Office of Nuclear Reactor Regulation.

[FR Doc. 03-28752 Filed 11-17-03; 8:45 am]

BILLING CODE 7590-01-P